ENVIRONMENTAL PROTECTION AGENCY

[EPA-HQ-OAR-2004-0015 and EPA-HQ-OAR-2004-0016; FRL-8277-3]

Agency Information Collection Activities; Proposed Collections; Comment Request; Part 70 Operating Permit Regulations, EPA ICR No. 1587.07, OMB Control No. 2060-0243; Part 71 Federal Operating Permit Regulations, EPA ICR No. 1713.06, OMB Control No. 2060-0336

AGENCY: Environmental Protection Agency (EPA).

ACTION: Notice.

SUMMARY: In compliance with the Paperwork Reduction Act (PRA) (44 U.S.C. 3501 et seq.), this document announces that EPA is planning to submit a request to renew two existing approved Information Collection Requests (ICRs) to the Office of Management and Budget (OMB). These ICRs are scheduled to expire on March 31, 2007. Before submitting these ICRs to OMB for review and approval, EPA is soliciting comments on specific aspects of the proposed information collection as described below.

DATES: Comments must be submitted on or before April 10, 2007.

ADDRESSES: Submit your comments, identified by Docket ID No. EPA-HQ-OAR-2004-0015 (part 70 ICR) or EPA-HQ-OAR-2004-0016 (part 71 ICR), by one of the following methods:

• http://www.regulations.gov: Follow the on-line instructions for submitting comments.

• Fax: (202) 566-7944.

• Mail: U.S. Environmental Protection Agency, EPA Docket Center (EPA/DC), Air and Radiation Docket Information Center, 1200 Pennsylvania Avenue, NW., Mail Code 2822T, Washington, DC 20460.

• Hand Delivery: EPA Docket Center, EPA West, Room 3334, 1301 Constitution Avenue, NW., Washington, DC 20004. Such deliveries are accepted only during the Docket's normal hours of operation—8:30 a.m. to 4:30 p.m., Monday through Friday. Special arrangements should be made for deliveries of boxed information.

Instructions: Direct your comments to Docket ID No. EPA-HQ-OAR-2004-0015 or EPA-HQ-OAR-2004-0016. EPA's policy is that all comments received will be included in the public docket without change and may be made available online at http://www.regulations.gov including any personal information provided, unless the comment includes information claimed to be Confidential Business Information (CBI) or other information whose disclosure is restricted by statute. Do not submit information that you consider to be CBI or otherwise to be protected through www.regulations.gov or e-mail. The www.regulations.gov Web site is an “anonymous access” system, which means we will not know your identity or contact information unless you provide it in the body of your comment. If you send an e-mail comment directly to us without going through www.regulations.gov, your e-mail address will be automatically captured and included as part of the comment that is placed in the public docket and made available on the Internet. If you submit an electronic comment, we recommend that you include your name and other contact information in the body of your comment and with any disk or CD-ROM you submit. If EPA cannot read your comment due to technical difficulties and cannot contact you for clarification, we may not be able to consider your comment. Electronic files should avoid the use of special characters or any form of encryption and be free of any defects or viruses. For additional information about the EPA public docket visit the EPA Docket Center homepage at http://www.epa.gov/epahome/dockets.htm.

FOR FURTHER INFORMATION CONTACT: Jeff Herring, Office of Air Quality Planning and Standards, Air Quality Policy Division (C504-05), U.S. Environmental Protection Agency, Research Triangle Park, NC 27711; telephone number: (919) 541-3195; fax number: (919) 541-5509; e-mail address: herring.jeff@epa.gov.

SUPPLEMENTARY INFORMATION:

How Can I Access the Docket and/or Submit Comments?

The EPA has established public dockets for these ICRs under Docket ID Nos. EPA-HQ-OAR-2004-0015 (part 70 ICR) and EPA-HQ-OAR-2004-0016 (part 71 ICR) which are available for online viewing at http://www.regulations.gov, or in person viewing at the Air and Radiation Docket in the EPA Docket Center (EPA/DC), EPA West, Room 3334, 1301 Constitution Avenue, NW., Washington, DC 20004. The EPA/DC Public Reading Room is open from 8:30 a.m. to 4:30 p.m., Monday through Friday, excluding legal holidays. The telephone number for the reading room is (202) 566-1744, and the telephone number for the Air and Radiation Docket is (202) 566-1742.

Use www.regulations.gov to obtain a copy of the draft collections of information, submit or view public comments, access the index listing of the contents of the docket, and to access those documents in the public docket that are available electronically. Once in the system, select “search,” then key in the docket ID numbers identified in this document.

What Information Particularly Interests EPA?

Pursuant to section 3506(c)(2)(A) of the PRA, EPA specifically solicits comments and information to enable it to:

(i) Evaluate whether the proposed collection of information is necessary for the proper performance of the functions of the Agency, including whether the information will have practical utility;

(ii) evaluate the accuracy of the Agency's estimate of the burden of the proposed collection of information, including the validity of the methodology and assumptions used;

(iii) enhance the quality, utility, and clarity of the information to be collected; and

(iv) minimize the burden of the collection of information on those who are to respond, including through the use of appropriate automated electronic, mechanical, or other technological collection techniques or other forms of information technology, e.g., permitting electronic submission of responses. In particular, EPA is requesting comments from very small businesses (those that employ less than 25) on examples of specific additional efforts that

EPA could make to reduce the paperwork burden for very small businesses affected by this collection.

What Should I Consider When I Prepare My Comments for EPA?

You may find the following suggestions helpful for preparing your comments:

1. Explain your views as clearly as possible and provide specific examples.

2. Describe any assumptions that you used.

3. Provide copies of any technical information and/or data you used that support your views.

4. If you estimate potential burden or costs, explain how you arrived at the estimate that you provide.

5. Offer alternative ways to improve the collection activity.

6. Make sure to submit your comments by the deadline identified under DATES.

7. To ensure proper receipt by EPA, be sure to identify the docket ID numbers assigned to these actions in the subject line on the first page of your response. You may also provide the name, date, and Federal Register citation.

To What Information Collection Activity or ICR Does This Apply?

Docket ID Nos. EPA-HQ-OAR-2004-0015 (part 70 ICR) and EPA-HQ-OAR-2004-0016 (part 71 ICR).

Affected entities: Entities potentially affected by this action are those which must apply for and obtain an operating permit under title V of the Clean Air Act (Act). These, in general, include sources which are defined as “major” under any title of the Act.

Titles: Part 70 Operating Permit Regulations; Part 71 Federal Operating Permit Regulations.

ICR numbers: For the part 70 regulations, EPA ICR No. 1587.07 and OMB Control No. 2060-0243. For the part 71 regulations, EPA ICR No. 1713.05 and OMB Control No. 2060-0336.

ICR status: These ICRs are currently scheduled to expire on March 31, 2007. An Agency may not conduct or sponsor, and a person is not required to respond to, a collection of information, unless it displays a currently valid OMB control number. The OMB control numbers for EPA's regulations in title 40 of the CFR, after appearing in the Federal Register when approved, are listed in 40 CFR part 9, are displayed either by publication in the Federal Register or by other appropriate means, such as on the related collection instrument or form, if applicable. The display of OMB control numbers in certain EPA regulations is consolidated in 40 CFR part 9.

Abstract: Title V of the Act requires States to develop and implement a program for issuing operating permits to all sources that fall under any Act definition of “major” and certain other non-major sources that are subject to Federal air quality regulations. The Act further requires EPA to develop regulations that establish the minimum requirements for those State operating permits programs, to oversee implementation of the State programs, and to operate a Federal operating permits program in areas not subject to an approved State program.

The EPA regulations setting forth requirements for the State operating permits programs are at part 70, title 40, chapter I of the Code of Federal Regulations. These are referred to as the “Part 70 Operating Permit Regulations,” which are the subject of one of the ICRs addressed in this notice. The EPA regulations for the Federal operating permits program are at part 71, title 40, chapter I of the Code of Federal Regulations. These are referred to as the “Part 71 Federal Operating Permit Regulations,” which are the subject of the second ICR addressed in this notice. The part 71 program is being implemented for sources located in Indian country, Outer Continental Shelf sources, and in areas that do not have part 70 programs.

In implementing title V of the Act and EPA's part 70 operating permits regulations, State and local permitting agencies must develop programs and submit them to EPA for approval (section 502(d)), and sources subject to the program must develop operating permit applications and submit them to the permitting authority within 1 year after program approval (section 503). Permitting authorities will then issue permits (section 503(c)) and thereafter enforce, revise, and renew those permits at no more than 5-year intervals (section 502(d)). Permit applications and proposed permits will be provided to, and are subject to review by, EPA (section 505(a)). All information submitted by a source and the issued permit shall also be available for public review except for confidential information which will be protected from disclosure (section 503(e)). Sources will semi-annually submit compliance monitoring reports to the permitting authorities (section 504(a)). The EPA has the responsibility to oversee implementation of the program and to administer a Federal operating permits program in the event a program is not approved for a State (section 502(d)(3)) or if EPA determines the permitting authority is not adequately administering its approved program (section 502(i)(4)). The activities to carry out these tasks are considered mandatory and necessary for implementation of title V and the proper operation of the operating permits program. This notice provides updated burden estimates from previously approved ICRs.

Burden Statement: The annual public reporting and recordkeeping burden for the part 70 collection of information is estimated to average 248 hours per permitted source, and the annual burden for permitting authorities to administer a part 70 program is estimated to average 10,179 hours. The annual public reporting and recordkeeping burden for the part 71 collection of information is estimated to average 221 hours per permitted source.

Are There Changes in the Estimates From the Last Approval?

There is an increase of 206 thousand hours in the part 70 total estimated respondent annual burden compared with that identified in the ICR currently approved by OMB. This increase in part 70 burden for sources and permitting authorities is an adjustment due to changes in burden estimates, primarily an increase in permit renewal activities. These changes in burden are not program changes, as no federal mandates, including the part 70 and part 71 regulations, have changed in any way that would affect these ICRs since the last ICR updates.

For the part 71 program, there is a decrease of 22 thousand hours in the total estimated annual burden compared with that identified in the ICR currently approved by OMB. This burden reduction is also an adjustment, due to changes in assumptions, primarily due to a reduction in expected EPA oversight activities for delegated part 71 programs.

What Is the Next Step in the Process for This ICR?

The EPA will consider the comments received and amend the ICRs as appropriate. The final ICR packages will then be submitted to OMB for review and approval pursuant to 5 CFR 1320.12. At that time, EPA will issue another Federal Register notice pursuant to 5 CFR 1320.5(a)(1)(iv) to announce the submission of the ICRs to OMB and the opportunity to submit additional comments to OMB. If you have any questions about these ICRs or the approval process, please contact the technical person listed under FOR FURTHER INFORMATION CONTACT.

Dated: January 31, 2007.
Jenny Noonan Edmonds,
Acting Director, Office of Air Quality Planning and Standards.

[FR Doc. E7-2180 Filed 2-8-07; 8:45 am]

BILLING CODE 6560-50-P